DEPARTMENT OF ENERGY

Office of Arms Control and Nonproliferation; Proposed Subsequent Arrangement

AGENCY: Department of Energy.

ACTION: Subsequent arrangement.

SUMMARY: This notice is being issued under the authority of section 131 of the Atomic Energy Act of 1954, as amended (42 U.S.C. 2160). The Department is providing notice of a proposed “subsequent arrangement” under the Agreement for Cooperation Between the Government of the United States of America, and the Government of the Republic of Korea Concerning Civil Uses of Atomic Energy.

This subsequent arrangement concerns the joint determination by the Government of the United States of America, and the Government of the Republic of Korea pursuant to Article VIII(C) of the Agreement for Cooperation that the provisions in Article XI of that Agreement may be effectively applied for the alteration in form or content of U.S.-origin nuclear material contained in irradiated nuclear fuels from pressurized water reactors, CANDU reactors, and research reactors at the Post Irradiation Examination Facility (PIEF), the Irradiated Material Examination Facility (IMEF), and the DUPIC Fuel Fabrication Facility (DFDF) at the Headquarters of the Korea Atomic Energy Research Institute, in accordance with the plan contained in KAERI/AR-606/01 (KAERI/AR-583/00-rev.1) and KAERI/AR-607/01 (KAERI/AR-584/00-rev.1), with appendices, dated September 3, 2001. Any activities additional to the plan or changes in the equipment in the PIEF, IMEF, or DFDF will be reviewed by both parties to ensure the general consistency with the scope and objectives of this Joint Determination. Reference is made to the Joint Determinations signed by the Government of the United States of America and the Government of the Republic of Korea on March 29, 1996, and April 8, 1999, covering the same facilities and similar activities. These facilities continue to be acceptable to both parties pursuant to Article VIII(C) of the Agreement for the sole purpose of alteration in form or content of irradiated fuel elements for post-irradiation examination and for research, development, and manufacture of DUPIC fuel powders, pellets, and elements for the period ending March 31, 2007.

In accordance with section 131, of the Atomic Energy Act of 1954, as amended, we have determined that this subsequent arrangement will not be inimical to the common defense and security.

This subsequent arrangement will take effect no sooner than January 29, 2002.

Dated: January 8, 2002.
Trisha Dedik,
Director, Office of Nonproliferation Policy, National Nuclear Security Administration.

[FR Doc. 02-856 Filed 1-11-02; 8:45 am]

BILLING CODE 6450-01-P